NUCLEAR REGULATORY COMMISSION

[NRC-2015-0251]

Notice of Availability of Draft Guidance Documents for Subsequent License Renewal

AGENCY: Nuclear Regulatory Commission.

ACTION: Draft NUREG; public meeting and request for comment.

SUMMARY: The U.S. Nuclear Regulatory Commission (NRC) is issuing for public comment a draft NUREG, NUREG-2191, “Generic Aging Lessons Learned for Subsequent License Renewal (GALL-SLR) Report, Volume 1 and Volume 2,” and draft NUREG-2192, “Standard Review Plan for Review of Subsequent License Renewal Applications for Nuclear Power Plants” (SRP-SLR). These draft documents describe methods acceptable to the NRC staff for granting a subsequent license renewal in accordance with license renewal regulations, as well as techniques used by the NRC staff in evaluating applications for subsequent license renewal. Public meetings related to the issuance of these NUREGs are planned to be held on January 27 and 28, 2016, and February 23, 2016, at NRC's headquarters. Information about the public meetings will be posted on the NRC's Web site at http://meetings.nrc.gov/pmns/mtg.

DATES: Submit comments by February 29, 2016. Comments received after this date will be considered if it is practical to do so, but the Commission is able to ensure consideration only for comments received on or before this date.

ADDRESSES: You may submit comments by any of the following methods:

• Federal Rulemaking Web site: Go to http://www.regulations.gov and search for Docket ID NRC-2015-0251. Address questions about NRC dockets to Carol Gallagher; telephone: 301-415-3463; email: Carol.Gallagher@nrc.gov. For technical questions, contact the individual (s) listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Bennett Brady, Office of Nuclear Reactor Regulation, telephone: 301-415-2981, email: Bennett.Brady@nrc.gov or Steven Bloom, Office of Nuclear Reactor Regulation, telephone: 301-415-2431, email: Steven.Bloom@nrc.gov; U.S. Nuclear Regulatory Commission, Washington DC 20555-0001.

SUPPLEMENTARY INFORMATION:

I. Obtaining Information and Submitting Comments

A. Obtaining Information

Please refer to Docket ID NRC-2015-0251 when contacting the NRC about the availability of information for this action. You may obtain publicly-available information related to this action by any of the following methods:

• Federal rulemaking Web site: Go to http://www.regulations.gov and search for Docket ID NRC-2015-0251.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft NUREG-2191; “Generic Aging Lessons Learned for Subsequent License Renewal (GALL-SLR) Report, Volumes 1 and 2,” and draft NUREG-2192; “Standard Review Plan for Review of Subsequent License Renewal Applications for Nuclear Power Plants” (SRP-SLR) are available in ADAMS under ADAMS Accession Nos ML15348A111, ML15348A153, and ML15348A265, respectively.

• NRC's PDR: You may examine and purchase copies of public documents at the NRC's PDR, Room O1-F21, One White Flint North, 11555 Rockville Pike, Rockville, Maryland 20852.

B. Submitting Comments

Please include Docket ID NRC-2015-0251 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The Atomic Energy Act (AEA) of 1954, as amended, authorizes the NRC to issue 40-year initial licenses and upon application and approval, subsequently renew licenses for nuclear power reactors. The NRC regulations permit these licenses to be renewed beyond the initial 40-year term for an additional period of time, limited to 20-year increments per renewal, based on the outcome of an assessment to determine if the nuclear facility can continue to operate safely during the proposed period of extended operation. There are no limitations in the AEA or the NRC's regulations restricting the number of times a license may be renewed.

Based on interactions with the nuclear power industry, the NRC staff believes the first applications for subsequent license renewal, a term referring to all license renewals allowing a plant to operate beyond the 60-year period (40-year of an original operating license and a 20-year period of the first license renewal), may be submitted in 2018 or 2019.

The NRC has developed draft guidance for utilities wishing to apply for subsequent license renewal. The guidance documents for first license renewal (i.e., for operation from 40 to 60 years), the Generic Aging Lessons Learned Report, Revision 2 (GALL Report Rev. 2, ADAMS Accession Number ML103490041), and the Standard Review Plan for Review of License Renewal Applications, Revision 2 (SRP-LR Rev. 2, ADAMS Accession Number ML103490036) have been revised to reflect aging differences for increased operating time from 60 to 80 years, to consider new operating experience since the release of GALL Report Rev. 2, and to cover gaps identified in the GALL Report Rev 2. The GALL-SLR Report and SRP-SLR also include changes that have been previously issued for public comment as part of the staff's license renewal Interim Staff Guidance (ISG) process. These ISGs can be found at http://www.nrc.gov/reading-rm/doc-collections/isg/license-renewal.html. The NRC issued a draft ISG-2015-01, “Changes to Buried and Underground Piping and Tank Recommendations,” for public comment in the Federal Register (80 FR 37028; June 29, 2015; ADAMS Accession No ML15125A377). The staff is in the final process of reviewing this ISG for issuance as a final document. Upon issuance, the changes to the aging management program XI.M41, “Buried and Underground Piping and Tanks,” will be incorporated into the GALL-SLR Report and the associated sections of the SRP-SLR. Because the staff has previously sought and received public comments on these ISGs, the staff is not seeking further comments on these changes. They will be incorporated in the Final GALL-SLR Report and Final SRP-SLR.

The NRC is also announcing public meetings during the public comment period. Scheduled for January 27 and 28, 2016, and February 23, 2016, these meetings will be held at the NRC headquarters in Rockville, MD. The formal meeting notices are available at http://meetings.nrc.gov/pmns/mtg. It is anticipated that the public meetings will provide the participants an opportunity to obtain additional information, ask questions, and to otherwise facilitate the public in formulating and preparing written comments for NRC's staff consideration on these guidance documents. However, as these meetings will not be transcribed, the NRC encourages participants in these meetings to provide written comments to ensure that their comments and the reasons or justifications for their comments are clearly understood and considered.

Submitted comments should include detailed, supporting justification for the NRC staff to evaluate the need for changes in guidance, as well as references to the operating experience, industry standards, or other relevant reference materials that provide a sound technical basis for such changes. The NRC is also interested in comments that will improve the clarity of the documents so that the final guidance will provide a stable and acceptable evaluation standard for future subsequent license renewal applications. These guidance documents describe an acceptable, but not required, means for nuclear power plants to meet the license renewal regulations for operation during the subsequent period of extended operation. Editorial and style comments are not necessary and will not be considered, because the final versions will reflect any necessary editorial and style changes.

Dated at Rockville, Maryland, this 7th day of December 2015.
For the Nuclear Regulatory Commission.
Christopher G. Miller,
Director, Division of License Renewal, Office of Nuclear Reactor Regulation.

[FR Doc. 2015-32368 Filed 12-22-15; 8:45 am]

BILLING CODE 7590-01-P